COMMISSION ON CIVIL RIGHTS

Sunshine Act Notice

AGENCY: U.S. Commission on Civil Rights.

Date and Time: Friday, September 16, 2005, 9:30 a.m., Commission Meeting.

Place: U.S. Commission on Civil Rights, 624 9th Street, NW., Room 540, Washington, DC 20425.

Status:

Agenda

I. Approval of Agenda

II. Approval of Minutes of Meeting Held Friday, July 22 and Continued on Friday, August 26, 2005

III. Commission Briefing: The PATRIOT Act as it Relates to Anti-Arab and Anti-Muslim Intolerance

• Introductory Remarks by Chairman

• Speakers' Presentations

• Questions by Commissioners and Staff Director to Speakers

IV. Announcements

V. Staff Director's Report

VI. State Advisory Committee Issues

• State Advisory Committee Reports

• Other State Advisory Committee Issues

VII. Program Planning

• Elementary and Secondary School Desegregation

VIII. Discussion of Commission Briefings

• Stagnation of the Black Middle Class Briefing Report

• Future Briefing

IX. Future Agenda Items

FOR FURTHER INFORMATION CONTACT: Terri Dickerson, Press and Communications (202) 376-8582.

Kenneth L. Marcus,
Staff Director, Acting General Counsel.

[FR Doc. 05-17968 Filed 9-7-05; 8:49 am]

BILLING CODE 6335-01-M